DEPARTMENT OF HOMELAND SECURITY

Coast Guard

[Docket No. USCG-2010-1066]

Recreational Boating Safety Projects, Programs and Activities Funded Under Provisions of the Transportation Equity Act for the 21st Century; Accounting of

ACTION: Notice.

SUMMARY: In 1999, the Transportation Equity Act for the 21st Century made $5 million available to the Secretary of Homeland Security for payment per year of Coast Guard expenses for personnel and activities directly related to coordinating and carrying out the national recreational boating safety program. In 2005, the law was amended, and the amount was increased to $5.5 million. The Coast Guard is publishing this notice to satisfy a requirement of the Act that a detailed accounting of the projects, programs, and activities funded under the national recreational boating safety program provision of the Act be published annually in the Federal Register. In this notice, we have specified the amount of monies the Coast Guard has committed, obligated, or expended during fiscal year 2010, as of September 30, 2010.

FOR FURTHER INFORMATION CONTACT: For questions on this notice, call Jeff Ludwig, Regulations Development Manager, telephone 202-372-1061.

SUPPLEMENTARY INFORMATION:

Background and Purpose

The Transportation Equity Act for the 21st Century became law on June 9, 1998 (Pub. L. 105-178; 112 Stat. 107). The Act required that of the $5 million made available to carry out the national recreational boating safety program each year, $2 million shall be available only to ensure compliance with Chapter 43 of Title 46, U.S. Code—Recreational Vessels. On September 29, 2005, the Sportfishing and Recreational Boating Safety Amendments Act of 2005 was enacted (Pub. L. 109-74; 119 Stat. 2031). This Act increased the funds available to the national recreational boating safety program from $5 million to $5.5 million annually, and stated that “not less than” $2 million shall be available only to ensure compliance with Chapter 43 of Title 46, U.S. Code—Recreational Vessels.

These funds are available to the Secretary for payment of expenses of the Coast Guard for personnel and activities directly related to coordinating and carrying out the national recreational boating safety program. Subsection (c) of section 7405 of the Transportation Equity Act for the 21st Century directs that no funds available to the Secretary under this subsection may be used to replace funding traditionally provided through general appropriations, nor for any purposes except those purposes authorized; namely, for personnel and activities directly related to coordinating and carrying out the national recreational boating safety program. Amounts made available each fiscal year from 1999 through 2010 shall remain available until expended.

Use of these funds requires compliance with standard Federal contracting rules with associated lead and processing times resulting in a lag time between available funds and spending. The total amount of funding transferred to the Coast Guard from the Sport Fish Restoration and Boating Trust Fund and committed, obligated, and/or expended during fiscal year 2010 for each activity is shown below.

Factory Visit Program/Boat Testing Program: Funding was provided to continue the national recreational boat factory visit program, initiated in January 2001. The factory visit program currently allows contractor personnel, acting on behalf of the Coast Guard, to visit 2,000 recreational boat manufacturers each year to either inspect for compliance with Federal regulations, communicate with the manufacturers as to why they need to comply with Federal regulations, or educate them, as necessary, on how to comply with Federal regulations. Funding was also provided for testing of certain associated equipment and in-water testing of atypical and used recreational boats for compliance with capacity and flotation standards. This funding satisfies the legal requirements that “not less than” $2 million be available to ensure compliance with Chapter 43 of Title 46, U.S. Code—Recreational Vessels. ($2,313,078).

New Recreational Boating Safety Associated Travel: Travel by members of the Boating Safety Division's strategic planning panel was undertaken to attend meetings to develop the next iteration of the national recreational boating safety program strategic plan. ($18,882).

Boating Accident News Clipping Services: Funding was provided to continue to gather daily news stories of recreational boating accidents nationally for more real time accident information and to identify accidents that may involve regulatory non-compliances or safety defects. ($26,000).

Accident Investigation Tiger Team: Funding was provided to continue to provide on-call expert accident investigative services for any boating accident that appeared to involve a regulatory non-compliance or safety defect. ($17,335).

Web-based Document Management System: Funding was provided to continue to provide a web-based document management system to better enable the handling of thousands of recreational boating recall case and campaign reports. ($60,000).

Recreational Boating Safety (RBS) Outreach Program: Funding was provided for this program which provides full marketing, media, public information, and program strategy support to the nation-wide RBS effort. The goal is to coordinate the RBS outreach initiatives and campaigns, some of which include: National Boating Under the Influence Campaign (BUI), “Boat Responsibly!”, Life Jacket Wear, Vessel Safety Check Program (VSC), Boating Safety Education Courses, Propeller Strike Avoidance, Carbon Monoxide Poisoning, and other recreational boating safety issues on an as needed basis. ($597,621).

Web site Support: Funding for this initiative provides a full range of public media and boating safety information at http://www.uscgboating.org for a worldwide audience. It covers a wide spectrum of boating safety related topics and is dedicated to reducing loss of life, injuries, and property damage that occur on U.S. waterways by improving the knowledge, skills, and abilities of recreational boaters. ($104,723).

Boating Accident Report Database (BARD) Web System: BARD Web System funding enables reporting authorities in the 50 States, five U.S. Territories, and the District of Columbia to submit their accident reports electronically over a secure Internet connection. The system also enables the user community to generate statistical reports that show the frequency, nature, and severity of boating accidents. Fiscal year 2010 funds supported system maintenance, development, and technical (hotline) support. ($128,305).

Personnel Support: Funding was provided for personnel to support the development of new regulations and to conduct boating safety-related research and analysis ($669,338).

Printing: Funding was provided for printing the brochure “A GUIDE TO THE FEDERAL REQIREMENTS FOR RECREATIONAL BOATS.” This publication is used to educate boaters on the safety equipment carriage requirements for recreational boats, and proper and safe boating practices. The Coast Guard, USCG Auxiliary, U.S. Power Squadrons, and State agencies distribute this product to the public at local boating events, during classroom instruction, and during Vessel Safety Checks. ($101,420).

Reimbursable Salaries: Funding was provided to carry out the work as prescribed in 46 U.S.C. 13106(c) and as described herein. The first position was that of a professional mathematician/statistician to conduct necessary national surveys and studies on recreational boating activities as well as to serve as a liaison to other Federal agencies that are conducting boating surveys so that we can pool our resources and reduce costs. The second position was that of Outreach coordinator with responsibility of overseeing and managing RBS projects related to carbon monoxide poisoning, propeller injury mitigation, manufacturer compliance initiatives, etc. ($320,518).

Of the $5.5 million made available to the Coast Guard in fiscal year 2010, $2,726,496 has been committed, obligated, or expended and an additional $1,630,723 of prior fiscal year funds have been committed, obligated, or expended, as of September 30, 2010. Approximately $10.6 million has not been committed, obligated, or expended from previous years and is being reserved for a multi-year national boating survey.

This notice is issued under the authority of 46 U.S.C. 13106(c)(4).

Dated: December 10, 2010.
Kevin S. Cook,
Rear Admiral, U.S. Coast Guard, Director of Prevention Policy.

[FR Doc. 2010-31558 Filed 12-15-10; 8:45 am]

BILLING CODE 9110-04-P